DEPARTMENT OF AGRICULTURE

Forest Service

Rogue River-Siskiyou National Forest, Powers Ranger District, Coos County, OR; Eden Ridge Timber Sales

AGENCY: Forest Service, USDA.

ACTION: Corrected Notice of Intent to prepare an environmental impact statement for the Eden Ridge Timber Sales. The original notice was published on April 26, 2010.

SUMMARY: The USDA, Forest Service, is preparing an Environmental Impact Statement (EIS) on proposed variable density thinning treatments designed to control stocking and maintain or improve overall forest vigor and resiliency within a 6,516-acre planning area known as Eden Ridge. Timber harvested from stand treatments would contribute commercial timber to the Forest's Probable Sale Quantity. The planning area is located approximately four (4) air miles southeast of the city of Powers, Oregon, on the Powers Ranger District. A Notice of Intent (NOI) was first published for this proposal on April 26, 2010, Volume 75, No. 79, pages 21577-21579. Due to the length of time that has passed since the first NOI was published, refinement of the proposed action, and a change in the responsible official, the district is publishing this Corrected NOI. The district now proposes within the planning area, timber harvest and other connected activities on approximately 3,314 acres in stands regenerated from timber harvested around the 1930s and 1940s via historical railroad logging. Candidate stands located on suitable forest land within the planning area are proposed for treatment that are designated as Matrix, with some amount of Riparian Reserve under the Land and Resource Management Plan as amended by the Northwest Forest Plan. Approximately seventy-five (75) treatment units would be designed for timber harvest with associated harvest systems that would use a combination of ground-based and skyline operations depending on soil, slope and hydrological concerns. To facilitate treatments within the potential units being considered, approximately:

• 10.5 miles new road construction

• 0.03 miles of temporary roads

• 3.7 miles reconstruction of existing template non system roads

• 7.7 miles maintenance of proposed existing cost share roads

• 31 miles maintenance of existing system roads is proposed. It is estimated the project could produce approximately 50 million board feet from the 3,314 acres being considered, from multiple timber sales over a 5-year period. The alternatives include the proposed action, no action, and additional alternatives that responded to issues generated through the scoping process. The agency will give notice of the full environmental analysis and decisionmaking process so interested and affected people may participate and contribute to the final decision.

DATES: The draft environmental impact statement is expected March 2012 and the final environmental impact statement is expected July 2012.

ADDRESSES: Powers Ranger District, 42861 Highway 242, Powers, OR 97466-9700.

FOR FURTHER INFORMATION CONTACT: For information about the proposal, contact Wesley H. Crum, Project Leader, at the above address, phone (541) 439-6241 or email whcrum@fs.fed.us.

SUPPLEMENTARY INFORMATION:

Purpose and Need for Action

The overall Purpose of this project is to implement direction from the 1989 Land and Resource Management Plan for the Siskiyou National Forest, as amended by the 1994 Northwest Forest Plan. The majority of the Eden Ridge Timber Sales proposal is located on lands allocated to Matrix which emphasizes obtaining a full yield of timber within the capability of the land. Most scheduled timber harvest and other silvicultural activities would be conducted in that portion of the Matrix with suitable forest lands (NW Forest Plan, page C-39). Specifically for the Eden Ridge Timber Sales project, Needs include: Improvement of Overall Forest Vigor and Resiliency—There is a need for tree stocking level control to reduce stand densities through intermediate harvest thinning treatments to sustain or increase tree growth and improve forest vigor and resiliency. Density management would release remaining trees from inter-tree competition for sunlight, and would also reduce competition for water and soil nutrients when compared to untreated areas. Minor portions of the Planning Area infected with root diseases would be managed to harvest trees predisposed to pathogen infection and retain or plant resistant tree species to improve forest health. Older legacy (remnant) trees, minor conifer tree species (in portions of stands uninfected with root disease), hardwoods, existing snags and coarse woody debris would be retained where feasible to maintain or improve forest diversity. Post-treatment objectives are to develop a sustainable forest resilient to drought, wind, insects, disease, fire and other natural disturbances. Contribution of Commercial Timber to the Probable Sale Quantity—Proposed candidate stands are primarily allocated to Matrix and contribute to the Rogue River-Siskiyou National Forest Probable Sale Quantity (PSQ). PSQ is the estimated output of commercial timber and other commodities assigned to the Forest under the 1994 Northwest Forest Plan. The Purpose of this action is to respond to the stated Needs. Specific stand management objectives associated with the Purpose and Need for this proposal include:

• Maintenance or improvement of forest health and diversity within Matrix and Riparian Reserve land allocations through density management treatments. This typically means individual tree and overall stand diameter growth, crown development, vigor and overall stand health, and improved root strength on residual trees;

• Improve habitat conditions for wildlife and fish. This means increasing vegetative and structural species diversity; maintain or improve shading capability of streams; improve large wood retention and large wood recruitment, and provide suitable amounts of snags and/or replacement habitat for dependent species;

• Reduce the risk of effects from insect and disease infestations;

• Minimize or reduce the potential for high severity, stand replacement wildfires;

• Increase riparian vegetation quality, health and vigor; and

• Contribute to a predictable and sustainable level of timber commodities with human and economic dimensions.

Proposed Action

The action proposed by the Forest Service to meet the Purpose and Need is variable density thinning and other silvicultural treatments designed to control stocking and maintain or improve overall forest vigor and resiliency from within the 6,516-acre Eden Ridge Planning Area. Commercial timber harvested from stand treatments would contribute to the Forest's Probable Sale Quantity. The 6,516 acre Eden Ridge planning area is located approximately four (4) air miles southeast of the city of Powers, Oregon at the closest point, with a legal description of: Township 31 South, Range 10 West, Sections 9, 15, 16, 17, 18, 19, 20, 21, 29 and 30; and Township 31 South, Range 11 West, Sections 21, 22, 23, 24, 25, 26, and 27; Willamette Meridian; Coos County, Oregon. The planning area falls within the South Fork Coquille River and the Middle Fork Coquille River 5th-Field watersheds, and the Lower Rock Creek, Myrtle Creek, Headwaters South Fork Coquille River, Coal Creek, and Mill Creek 6th field watersheds. The proposed action would occur from multiple timber sales over a 5-year period.

Possible Alternatives

The Proposed Action and two action alternatives are proposed for achieving the stated Purpose and Need, as well as a No-Action Alternative. These alternatives were developed based on issues raised by the public and other agencies.

Responsible Official

The Forest Supervisor, Rogue River-Siskiyou National Forest, is the responsible official for this project.

Nature of Decision To Be Made

The Forest Supervisor will decide whether to implement the action as proposed, whether to take no action at this time, whether to implement any alternatives that are proposed, or develop a preferred alternative from all of the alternatives.

Preliminary Issues

The following are significant issues: Hydrologic Conditions, Water Quality, Cumulative Watershed Effects, Soils, Geology, and Site Productivity and Economics.

Other issues include: Aquatic Conservation Strategy, Fire/Fuels, Air Quality, Botanical Resources, Invasive Plants, Port-Orford-cedar Root Disease, Threatened Terrestrial Wildlife Species and Critical Habitat, Forest Service Sensitive Terrestrial Wildlife Species and Habitats, Rare and Uncommon Terrestrial Wildlife Species, Neo-tropical Migratory Birds, Aquatic Species and Habitats, Thinning Shock and Wind throw Potential, Other Undeveloped Areas, Heritage Resources, Recreation/Human Safety and Climate Change.

Scoping Process

The scoping process for this project occurred when the original NOI was published in 2010. Issues identified during the scoping period were used to determine the alternatives considered and breadth of analysis. Public field trips were held on August 1st and 2nd, 2011. Additional public meetings may be planned in the future. This proposal has been listed on the Rogue River-Siskiyou NF Schedule of Proposed Actions since October, 2010.

Dated: January 4, 2012.
Jennifer Eberlien,
Acting Forest Supervisor, Rogue River-Siskiyou National Forest.

[FR Doc. 2012-860 Filed 1-17-12; 8:45 am]

BILLING CODE 3410-11-P